EQUAL EMPLOYMENT OPPORTUNITY COMMISSION

SES Performance Review Board Members

AGENCY: Equal Employment Opportunity Commission (EEOC).

ACTION: Notice.

SUMMARY: Notice is hereby given of the names of the members of the SES Performance Review Board of EEOC .

FOR FURTHER INFORMATION CONTACT: Arlethia D. Monroe, Acting Director, Office of Human Resources, Equal Employment Opportunity Commission, 1801 L Street, NW., Washington, DC 20507, (202) 663-4306.

SUPPLEMENTARY INFORMATION: Pursuant to the requirement of 5 U.S.C. 4314(c)(1), membership of the SES Performance Review Board is as follows: Mr. Roy J. Rodriguez, Deputy Chief Operating Officer, Equal Employment Opportunity Commission (Chairperson); Mr. Chester V. Bailey, Director, Milwaukee District Office, Equal Employment Opportunity Commission; Ms. Patricia T. Bivins, Director, New Orleans District Office, Equal Employment Opportunity Commission; Mr. David L. Frank, Legal Counsel, Equal Employment Opportunity Commission; Susan L. McDuffie, Director, San Francisco District Office, Equal Employment Opportunity Commission; Peggy R. Mastroianni, Associate Legal Counsel (Alternate), Equal Employment Opportunity Commission.

Signed at Washington, D.C., on this 25th day of October 2001.
For the Commission.
Cari. M. Dominguez,
Chair.

[FR Doc. 01-27408 Filed 10-31-01; 8:45 am]

BILLING CODE 6570-01-P